DEPARTMENT OF HEALTH AND HUMAN SERVICES

Administration for Children and Families

Proposed Information Collection Activity; National Youth in Transition Database (NYTD) and Youth Outcomes Survey (Office of Management and Budget #0970-0340)

AGENCY: Children's Bureau, Administration for Children and Families, Department of Health and Human Services.

ACTION: Request for public comments.

SUMMARY: The Administration for Children and Families (ACF) is requesting a three-year extension of the National Youth in Transition Database (NYTD) and Youth Outcomes Survey (Office of Management and Budget (OMB)#: 0970-0340, expiration date May 31, 2025). There are no changes requested to the form.

DATES: Comments due February 28, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Foster Care Independence Act of 1999 (42 U.S.C. 1305 et seq.) as amended by Public Law 106-169 requires state child welfare agencies to collect and report to ACF data on the characteristics of youth receiving independent living services and information regarding their outcomes. The regulation implementing the NYTD, listed in 45 CFR 1356.80, contains standard data collection and reporting requirements for states to meet the law's requirements. Additionally, the Family First Prevention Services Act of 2017 (House of Representatives 253) further outlines the expectation of the collection and reporting of data and outcomes regarding youth who are in receipt of independent living services. ACF will continue to use the information collected under the regulation to track independent living services, assess the collective outcomes of youth, and potentially to evaluate state performance regarding those outcomes consistent with the law's mandate.

Respondents: State agencies that administer the Chafee Foster Care Program for Successful Transition to Adulthood (Chafee program) report on the young people who are served by the program and who complete the youth outcomes survey.

Annual Burden Estimates

The annual burden estimates are based on data to inform 2025 estimates. Estimates for years further out are likely to be similar, but the number of youth respondents and time to complete the state data file may fluctuate and more detail will be provided in the submission to OMB and the corresponding notice published in the Federal Register.

Instrument | Total number of respondents | Number of responses per respondent | Average burden hours per response | Annualized burden hours
State Data File | 52 | 2 (annually) | 1,317 | 136,968
Youth Outcomes Survey | 9,300 | 1 | 0.5 | 4,650

Estimated Total Annual Burden Hours: 141,618.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: NYTD is authorized by Public Law 106-169, enacted December 14, 1999. This public law establishes the John H. Chafee Foster Care Independence Program (CFCIP) now known as Chafee Foster Care Program for Successful Transition to Adulthood (Chafee program) at section 477 of the Social Security Act. NYTD data are collected pursuant to 45 CFR 1356.80.

Mary C. Jones,
ACF/OPRE Certifying Officer.

[FR Doc. 2024-31087 Filed 12-27-24; 8:45 am]

BILLING CODE 4184-73-P